DEPARTMENT OF LABOR

Employee Benefits Security Administration

223rd Meeting of the Advisory Council on Employee Welfare and Pension Benefit Plans; Notice of Meeting

Pursuant to the authority contained in section 512 of the Employee Retirement Income Security Act of 1974 (ERISA), 29 U.S.C. 1142, the 223rd open meeting of the Advisory Council on Employee Welfare and Pension Benefit Plans (also known as the ERISA Advisory Council) will be held on September 10-12, 2024. On Tuesday, September 10, 2024, the meeting will begin at 1 p.m. and end at approximately 4:30 p.m. (ET). On Wednesday, September 11, 2024, the meeting will begin at 9 a.m. and end at approximately 6 p.m. (ET), with a one-hour break for lunch. On Thursday, September 12, 2024, the meeting will begin at 9 a.m. and end at approximately 3 p.m. (ET), with a one-hour break for lunch.

The three-day meeting will take place at the U.S. Department of Labor, 200 Constitution Avenue NW, Washington, DC 20210 in Room 6, C5320. The meeting will also be accessible via teleconference and some participants, as well as members of the public, may elect to attend virtually. Instructions for public teleconference access will be available on the ERISA Advisory Council's web page at https://www.dol.gov/agencies/ebsa/about-ebsa/about-us/erisa-advisory-council approximately one week prior to the meeting.

The purpose of the open meeting is for Advisory Council members to hear testimony from invited witnesses and to receive an update from the Employee Benefits Security Administration (EBSA).

The Advisory Council is studying the following topics: (1) Making Welfare Plan Claims and Appeals Procedures More Accessible to Participants, and (2) Lifetime Income and Qualified Defined Investment Alternatives (QDIAs). Descriptions of these topics are available on the ERISA Advisory Council's web page at https://www.dol.gov/agencies/ebsa/about-ebsa/about-us/erisa-advisory-council.

Organizations or members of the public wishing to submit a written statement on any of the matters before the Advisory Council may do so on or before Tuesday, September 3, 2024, to George Pantazopoulos, Executive Secretary, ERISA Advisory Council. Statements should be transmitted electronically as an email attachment in text or pdf format to ERISAAdvisoryCouncil@dol.gov. Statements transmitted electronically that are included in the body of the email will not be accepted. Relevant statements received on or before Tuesday, September 3, 2024, will be included in the record of the meeting and made available through the EBSA Public Disclosure Room. No deletions, modifications, or redactions will be made to the statements received as they are public records. Warning: Do not include any personally identifiable or confidential business information that you do not want publicly disclosed.

Individuals or representatives of organizations interested in addressing the ERISA Advisory Council at the public meeting must submit a written request to the Executive Secretary on or before Tuesday, September 3, 2024, via email to ERISAAdvisoryCouncil@dol.gov. Requests to address the Council must include: (1) the name, title, organization, address, email address, and telephone number of the individual who would appear; (2) if applicable, the name of the organization(s) whose views would be represented; and (3) a concise summary of the statement that would be presented. Each individual or organization will be given 10 minutes to address the Council and should be prepared to answer questions regarding their written and oral statements. An agenda for the meeting, including a schedule of testimony from invited witnesses and a schedule of members of the public who will address the Council, will be posted on the ERISA Advisory Council's web page at https://www.dol.gov/agencies/ebsa/about-ebsa/about-us/erisa-advisory-council no later than September 5, 2024. The number of public commenters that address the Council may be limited based on the number of requests that are received. In that event, the broadest array of viewpoints on all aspects of the matters under consideration by the Advisory Council will be represented and all written statements received will be included in the public record.

Individuals who need special accommodations should contact the Executive Secretary on or before Tuesday, September 3, 2024, via email to ERISAAdvisoryCouncil@dol.gov or by telephoning (202) 693-8654.

For more information about the meeting, contact the Executive Secretary at the address or telephone number above.

Signed at Washington, DC, this 1st day of August, 2024.
Lisa M. Gomez,
Assistant Secretary, Employee Benefits Security Administration.

[FR Doc. 2024-17464 Filed 8-6-24; 8:45 am]

BILLING CODE 4510-29-P